DEPARTMENT OF HEALTH AND HUMAN SERVICES

National Institutes of Health

Proposed Collection; Comment Request; Graduate Student Training Program Application

SUMMARY: In compliance with the requirement of Section 3506(c)(2)(A) of the Paperwork Reduction Act of 1995, for opportunity for public comment on proposed data collection projects, the Graduate Partnerships Program/OITE/OIR/OD, the National Institutes of Health (NIH) will publish periodic summaries of proposed projects to be submitted to the Office of Management and Budget (OMB) for review and approval.

Proposed Collection

Title: Graduate Student Training Program Application. Type of Information Collection Request: Revision. Form Number: 0925-0501. Expiration Date: November 30, 2007. Need and Use of Information Collection: The information gathered in the Graduate Student Training Program application will enable the evaluation and identification of graduate students wishing to perform part or all of their PhD dissertation research within the NIH Intramural Research Program (NIH-IRP). The application for admission into the Graduate Partnerships Program (GPP) models many university graduate school applications, key areas including: Contact information, citizenship status, identification of partnerships to which the student wishes to apply, educational history, standardized examination scores, letters of recommendation, research interests, personal statement / proposed research, and NIH investigator for dissertation research. In addition, race, ethnicity, gender, and disability questions are included though optional for completion; used only for statistical purposes in evaluating GPP recruiting efforts and compliance with federal regulations. The Graduate Student Training Program application will be used by the NIH Admission Committees to identify candidates for admission in institutional and individual partnerships.

Frequency of Response: Once. Affected Public: Individuals. Type of Respondents: Students pursuing an advanced degree, Ph.D., who would like to perform part or all of their dissertation research in the NIH Intramural Research Program laboratories.

The annual reporting burden is displayed in the following table:

Estimates of Annual Burden Hours
Type of respondents | Estimated number of respondents | Estimated number of responses per respondent | Average burden hours per response | Estimated total annual burden hours requested
Graduate Student Applicants On-Line | 100 | 1 | 0.50 | 50
Post-baccalaureate Applicants On-Line | 500 | 1 | 0.50 | 250
Collection & Submission of Hardcopy Documents | 600 | 1 | 0.50 | 300
Recommendations (600 × 3) | 1800 | 1 | 0.25 | 450
Feedback Questions | 200 | 1 | 0.25 | 50
Totals | 3200 |  |  | 1100

Estimates of capital costs, operating costs, and/or maintenance costs are displayed in the following table:

Estimate of Annual Cost to the Federal Government
Annualized capital, start-up cost | Amount | Operational/maintenance & purchase components | Amount
Information Collection | $0.00 | Trouble-shooting and monitoring fees | $2000.00
Application Design, Development, Testing | 12,000.00 | Maintenance | 1000.00
Total | 12,000.00 | Total | 3,000.00

Estimate of Other Total Annual Cost Burden: $15,000.00.

Request for Comments

Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

For Further Information: To request more information on the proposed project or to obtain a copy of the data collection plans and instruments, contact: Dr. Patricia Wagner, Director of Admissions & Registrar, Graduate Partnerships Program, National Institutes of Health, 2 Center Drive, Building 2 / Room 2E12, Bethesda, Maryland 20892-0234, or call 301-594-9603 or E-mail your request, including your address to: wagnerpa@od.nih.gov.

Comments Due Date: Comments regarding this information collection are best assured of having their full effect if received within 60 days of the date of this publication.

Dated: June 18, 2007.
Michael M. Gottesman,
Deputy Director for Intramural Research, National Institutes of Health.

[FR Doc. E7-12175 Filed 6-22-07; 8:45 am]

BILLING CODE 4140-01-P